DEPARTMENT OF THE INTERIOR

Fish and Wildlife Service

Aquatic Nuisance Species Task Force Meeting

AGENCY: Fish and Wildlife Service, Interior.

ACTION: Notice of meeting.

SUMMARY: This notice announces a meeting of the Aquatic Nuisance Species (ANS) Task Force. The meeting is open to the public. The meeting topics are identified in the SUPPLEMENTARY INFORMATION section.

DATES: The Aquatic Nuisance Species Task Force will meet from 8 a.m. to 5 p.m. on Tuesday, May 24, 2005, and Wednesday, May 25, 2005, and from 8 a.m to 1 p.m. on Thursday, May 26, 2005.

ADDRESSES: The Aquatic Nuisance Species Task Force meeting will be held at the Monterey Conference Center, One Portola Plaza, Monterey, CA 93940; (831) 646-3770. Meeting arrangements and rooms for attendees are being arranged by the Marriott Monterey, 350 Calle Principal, Monterey, CA 93940. For reservations call (831) 649-4234 or (800) 228-9290 by May 9, 2005. Minutes of the meeting will be maintained in the office of Chief, Division of Environmental Quality, U.S. Fish and Wildlife Service, Suite 322, 4401 North Fairfax Drive, Arlington, Virginia 22203-1622, and will be made available for public inspection during regular business hours, Monday through Friday.

FOR FURTHER INFORMATION CONTACT: Don MacLean, Branch of Invasive Species, at (703) 358-2108.

SUPPLEMENTARY INFORMATION: Pursuant to section 10(a)(2) of the Federal Advisory Committee Act (5 U.S.C. App. I), this notice announces meetings of the Aquatic Nuisance Species Task Force. The ANS Task Force was established by the Nonindigenous Aquatic Nuisance Prevention and Control Act of 1990.

Topics to be covered during the ANS Task Force meeting include: A discussion of the implementation of the ANSTF Strategic Plan; ANSTF Committee and Regional Panel reports; ANSTF Ex-officio member reports; an update on U.S. Coast Guard and International Maritime Organization ballast water activities; an update on the Ballast Water Demonstration Program; implementation of Habitattitude™ Campaign; Western Regional Panel Presentations; a panel discussion on risk analysis; and a field trip.

Dated: April 21, 2005.
Mamie A. Parker,
Co-Chair, Aquatic Nuisance Species Task Force, Assistant Director—Fisheries & Habitat Conservation.

[FR Doc. 05-9021 Filed 5-5-05; 8:45 am]

BILLING CODE 4310-55-P